DEPARTMENT OF AGRICULTURE

Food and Nutrition Service

Agency Information Collection Activities: Proposed Collection; Comment Request—Information Collection for Determining Eligibility for Free and Reduced Price Meals

AGENCY: Food and Nutrition Service, USDA.

ACTION: Notice.

SUMMARY: In accordance with the Paperwork Reduction Act of 1995, this notice invites the general public and other public agencies to comment on a proposed information collection for determining eligibility for free and reduced price meals and free milk in schools. 7 CFR part 245 contains information on Federal requirements regarding the determination and verification of eligibility for free and reduced price meals. The provisions also apply to the determination of eligibility for free milk under the Special Milk Program, OMB Number 0584-0005 and are generally applicable to the Child and Adult Care Food Program, OMB Number 0584-0055 and the Summer Food Service Program, OMB Number 0584-0280 when individual children's eligibility must be established. The current approval for the information collection burden associated with 7 CFR part 245 expires on January 31, 2010. This proposed collection is a revision of the currently approved collection for determining eligibility for free and reduced price meals and free milk in schools and concerns the collection of eligibility information and verification proceedings.

DATES: Written comments must be submitted by October 6, 2009.

ADDRESSES: Comments are invited on: (a) Whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of collection of information on those who are to respond, including through the use of appropriate automated, electronic, mechanical or other technological collection techniques or other forms of information technology.

Comments may be sent to: Mrs. Lynn Rodgers-Kuperman, Chief, Program Analysis and Monitoring Branch, Child Nutrition Division, Food and Nutrition Service, U.S. Department of Agriculture, 3101 Park Center Drive, Room 638, Alexandria, Virginia 22302. Comments will also be accepted through the Federal eRulemaking Portal. Go to http://www.regulations.gov, and follow the online instructions for submitting comments electronically.

All written comment(s) will be open for public inspection at the office of the Food and Nutrition Service during regular business hours (8:30 a.m. to 5 p.m., Monday through Friday) at 3101 Park Center Drive, Room 640, Alexandria, Virginia 22302.

All responses to this notice will be summarized and included in the request for Office of Management and Budget (OMB) approval, and will become a matter of public record.

FOR FURTHER INFORMATION CONTACT: Mrs. Lynn Rodgers-Kuperman at (703) 305-2590.

SUPPLEMENTARY INFORMATION:

Title: Determining Eligibility for Free and Reduced Price Meals.

OMB Number: 0584-0026.

Expiration Date: January 31, 2010.

Type of Request: Revision of a currently approved collection.

Abstract: The Richard B. Russell National School Lunch Act (NSLA), as amended, authorizes the National School Lunch Program (NSLP). All schools participating in the National School Lunch Program, OMB Number 0584-0006, Expiration May 31, 2012 or School Breakfast Program, OMB Number 0584-0012, Expiration May 31, 2012 must make free and reduced price meals available to eligible children, and all schools and institutions participating in the free milk option of the School Milk Program must make free milk available for eligible children. The instant information collection asks for information about eligibility for participation in the Programs indicated above and verification procedures employed by participating schools.

The affected public, estimated number of respondents, frequency of reporting, annual responses and burden for reporting and recordkeeping are as follows:

Table 1—Reporting
Affected public | (b) Form number | (c) Number respondents | (d) Number responses per respondent | (e) Est. total annual responses (cxd) | (f) Hours per response | (g) Total burden (exf)
Reporting Burden
Individuals & Households | N/A | 8,600,000.00 | 1 | 8,600,000.00 | .5 | 4,300,000.00
State Agencies | N/A | 56.00 | 6 | 336.00 | 3 | 1,008.00
SFA | N/A | 20,858.00 | 11 | 229,438.00 | .25 | 573,595.00
Schools | N/A | 101,705.00 | 13 | 1,322,165 | .08 | 1,057,732.00
Total |  | 8,722,619.00 | 31 | 10,151,939 | 3.83 | 5,932,335.00
Summary of Reporting Burden |  | 8,722,619.00 | 31 | 10,151,939 | 284.54380 | 11,864,670.00

Table 2—Recordkeeping:
Affected public | (b) Form number | (c) Number respondents | (d) Number responses per respondent | (e) Est. total annual responses (cxd) | (f) Hours per response | (g) Total burden (exf)
Recordkeeping Burden
State Agencies | N/A | 48.00 | 1 | 48.00 | .25 | 12.00
Total |  | 48.00 | 1 | 48.00 | .25 | 12.00
Summary of Recordkeeping Burden |  | 48.00 | 1 | 48.00 | .25 | 12.00

Estimated Total for Reporting and Recordkeeping Burden: 11,864,682.

Dated: August 3, 2009.
Julia Paradis,
Administrator, Food and Nutrition Service.

[FR Doc. E9-18994 Filed 8-6-09; 8:45 am]

BILLING CODE 3410-30-P